DEPARTMENT OF DEFENSE

Defense Acquisition Regulations System

48 CFR Parts 210, 212, 213, and 252

[Docket DARS-2016-0023]

Defense Federal Acquisition Regulation Supplement; Technical Amendments

AGENCY: Defense Acquisition Regulations System, Department of Defense (DoD).

ACTION: Final rule.

SUMMARY: DoD is making technical amendments to the Defense Federal Acquisition Regulation Supplement (DFARS) to provide needed editorial changes.

DATES: Effective September 23, 2016.

FOR FURTHER INFORMATION CONTACT: Ms. Jennifer L. Hawes, Defense Acquisition Regulations System, OUSD(AT&L)DPAP(DARS), Room 3B941, 3060 Defense Pentagon, Washington, DC 20301-3060. Telephone 571-372-6115; facsimile 571-372-6094.

SUPPLEMENTARY INFORMATION: This final rule amends the DFARS as follows—

1. Provides direction to contracting officers at DFARS 210.002 to follow the procedures at DFARS Procedures, Guidance, and Information (PGI) 210.002(e)(iii) regarding market research file documentation;

2. Add DFARS 212.102(a)(ii) to reflect that contracting officers should follow the procedures and guidance at PGI 212.102(a) regarding file documentation;

3. Revises DFARS 213.7001 to update cross references to DFARS PGI;

4. Provides an updated internet link at DFARS 252.219-7000 to the Procurement Technical Assistance Center locations; and

5. Provides an updated internet link at DFARS 252.245-7004(b) to the Plant Clearance Automated Reutilization Screening System.

List of Subjects in 48 CFR 210, 212, 213, and 252

Government procurement.

Jennifer L. Hawes,
Editor, Defense Acquisition Regulations System.

Therefore, 48 CFR parts 210, 212, 213, and 252 are amended as follows:

1. The authority citation for 48 CFR parts 210, 212, 213, and 252 continues to read as follows:

Authority: 41 U.S.C. 1303 and 48 CFR chapter 1.

PART 210—MARKET RESEARCH

2. Amend section 210.002 by adding paragraph (e)(iii) to read as follows:

210.002 Procedures.

(e) * * *

(iii) Follow the procedures at PGI 210.002(e)(iii) regarding contract file documentation.

PART 212—ACQUISITION OF COMMERCIAL ITEMS

3. Add section 212.102(a)(ii) to read as follows:

212.102 Applicability.

(a) * * *

(ii) Follow the procedures at PGI 212.102(a).

PART 213—SIMPLIFIED ACQUISITION PROCEDURES

213.7001 [Amended]

4. Amend section 213.7001 by—

a. In paragraph (a)(1), removing “219.804-2(2)” and adding “PGI 219.804-2(2)” in its place;

b. In paragraph (a)(2), removing “Subpart 219.8” and adding “PGI 219.8” in its place, and removing “219.804-2(2)” and adding “PGI 219.804-2(2)” in its place; and

c. In paragraph (b), removing “Subpart 19.8” and adding “subpart 19.8” in its place.

PART 252—SOLICITATION PROVISIONS AND CONTRACT CLAUSES

252.219-7000 [Amended]

5. Amend section 252.219-7000 by—

a. Removing the clause date “(MAY 2015)” and adding “(SEP 2016)” in its place; and

b. In paragraph (c), removing “www.dla.mil/SmallBusiness/Pages/ptac.aspx” and adding “http://www.dla.mil/HQ/SmallBusiness/PTAC.aspx” in its place.

252.245-7004 [Amended]

6. Amend section 252.245-7004 by—

a. Removing the clause date “(MAR 2015)” and adding “(SEP 2016)” in its place; and

b. In paragraph (b) introductory text, removing “http://www.dcma.mil/ITCSO/CBT/PCARSS/index.cfm” and adding “http://www.dcma.mil/DCMAIT/cbt/PCARSS/index.cfm” in its place.

[FR Doc. 2016-22572 Filed 9-22-16; 8:45 am]

BILLING CODE 5001-06-P